DEPARTMENT OF EDUCATION

Applications for New Awards; Indian Education Discretionary Grants Programs—Native American Language (NAL@ED) Program

AGENCY: Office of Elementary and Secondary Education, Department of Education.

ACTION: Notice; amendment.

SUMMARY: On May 4, 2017, we published in the Federal Register a notice inviting applications (NIA) for the NAL@ED fiscal year (FY) 2017 competition, Catalog of Federal Domestic Assistance (CFDA) number 84.415B. In this notice, the Department changes the information in the NIA on the estimated available funds, estimated range of awards, estimated average size of awards, maximum award, and estimated number of awards. All other information in the NIA for this competition remains the same.

DATES: This action is effective June 1, 2017.

FOR FURTHER INFORMATION CONTACT: John Cheek, U.S. Department of Education, 400 Maryland Avenue SW., Room 3W207, Washington, DC 20202-6335. Telephone: (202) 401-0274 or by email: john.cheek@ed.gov.

If you use a telecommunications device for the deaf (TDD) or a text telephone (TTY), call the Federal Relay Service (FRS), toll free, at 1-800-877-8339.

SUPPLEMENTARY INFORMATION: The estimated funding amounts in the NIA for the NAL@ED FY 2017 competition were based on the Further Continuing and Security Assistance Appropriations Act, 2017, which provided $5,554,421 on an annualized basis for Indian Education National Activities, of which we anticipated using $1,100,000 for this NAL@ED competition. The Consolidated Appropriations Act, 2017 provided $6,565,000 for Indian Education National Activities. Public Law 115-31, 131 Stat. 135, 546 (May 5, 2017).

We will use $2,000,000 for this year's NAL@ED competition. As a result of the increase in funding available for this NAL@ED competition, we are amending the Award Information section of the NIA, including the maximum award amount.

Amendments

In FR 2017-09043, published in the May 4, 2017, edition of the Federal Register (82 FR 20869), on page 20872, in the middle column, we amend the Award Information section to read as follows:

II. Award Information

Type of Award: Discretionary grants.

Estimated Available Funds: $2,000,000.

Contingent upon the availability of funds and the quality of applications, we may make additional awards in subsequent years from the list of unfunded applications from this competition.

Estimated Range of Awards: $125,000-$500,000 per year.

Estimated Average Size of Awards: $300,000 per year.

Maximum Award: We will reject any application that proposes a budget exceeding $500,000 for a single budget period of 12 months.

Estimated Number of Awards: 3-7.

Note: The Department is not bound by any estimates in this notice.

Project Period: Up to 36 months.

All other information in the NIA for this competition remains the same.

Program Authority: 20 U.S.C. 7453.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: May 25, 2017.
Jason Botel,
Acting Assistant Secretary for Elementary and Secondary Education.

[FR Doc. 2017-11339 Filed 5-31-17; 8:45 am]

BILLING CODE 4000-01-P